DEPARTMENT OF THE TREASURY

48 CFR Part 1052

RIN 1505-AC41

Department of the Treasury Acquisition Regulation; Internet Payment Platform; Technical Amendment

AGENCY: Office of the Procurement Executive, Treasury.

ACTION: Final rule; technical amendment.

SUMMARY: On July 9, 2012, the Department of the Treasury amended the Department of the Treasury Acquisition Regulation (DTAR) to implement use of the Internet Payment Platform, a centralized electronic invoicing and payment information system, and to change the definition of bureau to reflect the consolidation on July 21, 2011 of the Office of Thrift Supervision with the Office of the Comptroller of the Currency. This document makes one technical amendment to a clause heading.

DATES: Effective: March 11, 2014.

FOR FURTHER INFORMATION CONTACT: Porter Glock, Office of the Procurement Executive, at (202) 622-7096.

SUPPLEMENTARY INFORMATION: On July 9, 2012 (77 FR 40302), the Department amended the DTAR to implement the “Internet Payment Platform.” The Department has discovered that it inadvertently left off the clause date in § 1052.232-7003. To eliminate any confusion this omission may cause, this technical amendment inserts the “August 2012” date in place of “DATE TBD” in the clause heading “ELECTRONIC SUBMISSION OF PAYMENT REQUESTS.”

List of Subjects in 48 CFR Part 1052 Government Procurement

Accordingly, 48 CFR part 1052 is corrected by making the following correcting amendment:

PART 1052—SOLICITATION PROVISIONS AND CONTRACT CLAUSES

1. The authority citation for part 1052 continues to read as follows:

Authority: 41 U.S.C. 418b.

2. Amend section 1052.232-7003 by revising the clause heading to read as follows:

1052.232-7003 Electronic submission of payment requests.

* * * * *

ELECTRONIC SUBMISSION OF PAYMENT REQUESTS (AUGUST 2012)

* * * * *

Dated: February 25, 2014.
Iris B. Cooper,
Senior Procurement Executive, U.S. Department of the Treasury.

[FR Doc. 2014-05193 Filed 3-10-14; 8:45 am]

BILLING CODE 4810-25-P